DEPARTMENT OF HOMELAND SECURITY

Coast Guard

[Docket No. USCG-2013-1078]

National Offshore Safety Advisory Committee

AGENCY: Coast Guard, DHS.

ACTION: Notice of Federal Advisory Committee meetings.

SUMMARY: The National Offshore Safety Advisory Committee and its Subcommittees will meet on November 18 and 19, 2014, in Houston, TX, to discuss the safety of operations and other matters affecting the offshore oil and gas industry. These meetings are open to the public.

DATES: Subcommittees of the National Offshore Safety Advisory Committee will meet on Tuesday, November 18, 2014, from 1 p.m. to 4 p.m. and the full Committee will meet on Wednesday, November 19, 2014, from 8:30 a.m. to 4:30 p.m. These meetings may end early if the Committee has completed its business, or they may be extended based on the number of public comments. All submitted written materials, comments, and requests to make oral presentations at the meetings should reach the Coast Guard (see FOR FURTHER INFORMATION CONTACT) by November 1, 2014. Any written material submitted by the public will be distributed to the Committee and become part of the public record.

ADDRESSES: The meetings will be held in the conference room of the American Bureau of Shipping, 15011 Katy Freeway, Suite 100, Houston, TX, 77094, 832-391-3300, http://www.eagle.org.

For information on facilities or services for individuals with disabilities, or to request special assistance at the meetings, contact the individuals listed in FOR FURTHER INFORMATION CONTACT section, as soon as possible.

To facilitate public participation, we are inviting public comment on the issues to be considered by the Committee as listed in the “Agenda” section below. Written comments for distribution to Committee members must be submitted no later than November 1, 2014, if you want the Committee members to be able to review your comments before the meeting, and must be identified by docket number USCG-2013-1078 and submitted by one of the following methods:

• Federal eRulemaking Portal: http://www.regulations.gov. Follow the instructions for submitting comments (preferred method to avoid delays in processing).

• Fax: (202) 493-2251.

• Mail: Docket Management Facility (M-30), U.S. Department of Transportation, West Building Ground Floor, Room W12-140, 1200 New Jersey Avenue SE., Washington, DC 20590-0001.

• Hand Delivery: Same as mail address above, between 9 a.m. and 5 p.m., Monday through Friday, except Federal holidays. The telephone number is 202-366-9329.

To avoid duplication, please submit comments using only one of the above methods.

Instructions: All submissions must include the words “Department of Homeland Security” and the docket number for this action, USCG-2013-1078. All comments submitted will be posted without alteration at http://www.regulations.gov including any personal information provided. You may review a Privacy Act notice regarding our public dockets in the January 17, 2008, issue of the Federal Register (73 FR 3316).

Docket: For access to the docket to read documents or comments related to this notice, go to http://www.regulations.gov, insert USCG-2013-1078 in the Search box, press Enter, and then click on the item you wish to view.

A public oral comment period will be held during the meeting on November 19, 2014, and speakers are requested to limit their comments to 3 minutes. Contact one of the individuals listed below to register as a speaker.

FOR FURTHER INFORMATION CONTACT: Commander Thomas Kaminski, Designated Federal Official of the National Offshore Safety Advisory Committee, Commandant (CG-OES-2), U.S. Coast Guard, 2703 Martin Luther King Jr. Avenue SE., Stop 7509, Washington, DC 20593-7509; telephone (202) 372-1410, fax (202) 372-8382 or email Thomas.J.Kaminski@uscg.mil, or Mr. Scott Hartley, telephone (202) 372-1437, fax (202) 372-8382 or email Scott.E.Hartley@uscg.mil. If you have questions on viewing or submitting material to the docket, call Cheryl Collins, Program Manager, Docket Operations, telephone 202-366-9826 or 1-800-647-5527.

SUPPLEMENTARY INFORMATION: Notice of this meeting is given under the Federal Advisory Committee Act, Title 5 United States Code Appendix. The National Offshore Safety Advisory Committee provides advice and recommendations to the Department of Homeland Security on matters and actions concerning activities directly involved with or in support of the exploration of offshore mineral and energy resources insofar as they relate to matters within U.S. Coast Guard jurisdiction.

A copy of all meeting documentation will be available at https://homeport.uscg.mil/NOSAC. Alternatively, you may contact Mr. Scott Hartley as noted in the FOR FURTHER INFORMATION CONTACT section above.

Agenda

Day 1

The National Offshore Safety Advisory Committee Subcommittees will meet on November 18, 2014, from 1 p.m. to 4 p.m. to review, discuss and formulate recommendations on the following matters:

• Commercial Diving Safety on the Outer Continental Shelf;

• Offshore Supply Vessel Purpose and Offshore Workers; and

• Training of personnel on Mobile Offshore Units and Offshore Supply Vessels working on the Outer Continental Shelf.

Day 2

The National Offshore Safety Advisory full Committee will meet on November 19, 2014, from 8:30 a.m. to 4:30 p.m. to review and discuss Subcommittee progress, reports and recommendations received from the above listed Subcommittees from their deliberations on November 18, 2014. The Committee will then use this information and consider public comments in formulating recommendations to the U.S. Coast Guard. Public comments or questions will be taken at the discretion of the Designated Federal Officer during the discussion and recommendation portion of the meeting as well as during the public comment period. A complete agenda for November 19, 2014, is as follows:

(1) Current Business—Presentation and discussion of progress reports, final reports and recommendations from the Subcommittees and subsequent actions on:

(a) Commercial Diving Safety on the Outer Continental Shelf;

(b) Offshore Supply Vessel Purpose and Offshore Workers; and

(c) Training of personnel on Mobile Offshore Units and Offshore Supply Vessels working on the Outer Continental Shelf.

(2) Presentations and discussions of the following matters:

(a) Offshore Service Vessel Dynamic Positioning Authority and Dynamic Positioning Operator Certification;

(b) NorSafe U.S.A. Lifeboat Fall Testing;

(c) American Bureau of Shipping Liquefied Natural Gas Bunkering;

(d) Center for Offshore Safety Activities; and

(e) American Petroleum Institute Recommended Practice 2D Operation and Maintenance of Offshore Cranes.

(3) Public comment period.

The agenda, progress reports, draft final reports, new task statements and presentations will be available approximately 7 days prior to the meeting at the https://homeport.uscg.mil/NOSAC Web site or by contacting Mr. Scott Hartley.

Minutes

Meeting minutes will be available for public view and copying within 90 days following the meeting at the https://homeport.uscg.mil/NOSAC Web site.

Notice of Future 2014 National Offshore Safety Advisory Committee Meetings

To receive automatic email notices of future National Offshore Safety Advisory Committee meetings in 2014, go to the online docket, USCG-2013-1078 (http://www.regulations.gov/#!docketDetail:D=USCG-2013-1078), and select the sign-up-for-email-alerts option.

Dated: October 22, 2014.
J.G. Lantz,
Director of Commercial Regulations and Standards, U.S. Coast Guard.

[FR Doc. 2014-25472 Filed 10-24-14; 8:45 am]

BILLING CODE 9110-04-P